DEPARTMENT OF ENERGY

Federal Energy Regulatory Commission

[Docket No. RP98-52-000]

Williams Gas Pipelines Central, Inc.; Notice of Informal Settlement Conference

October 24, 2000.

An informal settlement conference in the above docket will be held on Monday, October 30, 2000, in the Wyandot Room, Hilton Kansas City Airport, 8801 NW 112th Street, Kansas City, Missouri 64153. The informal settlement conference will begin at 9:30 a.m.

All interested parties in the above docket are requested to attend the informal settlement conference. If a party has any questions regarding the conference, please call Richard Miles, the Director of the Dispute Resolution Service. His telephone number is 1 877 FERC ADR (337-2237) or 202/208-0702 and his e-mail address is richard.miles@ferc.fed.us. If you plan on attending the conference, please R.S.V.P. to Jamie Capps at Williams by e-mail at jamie.capps@williams.com, by fax at 918/573-4195 or by phone at 918/573-4218 so that appropriate accommodations may be made. Williams would also like to extend to all parties the option of attending in business casual attire.

David P. Boergers,
Secretary.

[FR Doc. 00-27765 Filed 10-27-00; 8:45 am]

BILLING CODE 6717-01-M